DEPARTMENT OF JUSTICE

Notice of Lodging of Consent Decree Under the Clean Air Act

Notice is hereby given that on August 25, 2009, the United States Department of Justice, on behalf of the U.S. Environmental Protection Agency (“EPA”), lodged with the United States District Court for the Eastern District of Tennessee a consent decree with defendant Bowater Incorporated in the case of United States v. Bowater Incorporated (1:09-cv-00223). On the same day, the United States filed a Complaint pursuant to the Federal Clean Air Act, 42 U.S.C. 7413 (the “Act”) alleging violations of the Act at Bowater's Calhoun, Tennessee pulp and paper mill. Under the Consent Decree, Bowater will seek an amended State operating permit that makes various changes to Bowater's operations and provides new emission limits. Bowater also agrees that a penalty in the amount of $30,000 shall be allowed as a pre-petition general unsecured claim in the bankruptcy case of In re Bowater Inc., No. 09-11311 (KJC), pending in the United States Bankruptcy Court for the District of Delaware.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to the consent decree between the United States and Bowater, DOJ Ref. No. 90-5-2-1-08852.

The proposed consent decree may be examined at EPA's office, 61 Forsyth Street, Atlanta, GA 30303. During the public comment period, the Settlement Agreement may also be examined on the following Department of Justice Web site, http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.25 (25 cents per page reproduction cost) payable to the U.S. Treasury or, if by e-mail or fax, forward a check in that amount to the Consent Decree Library at the stated address.

Maureen Katz,
Assistant Section Chief, Environmental Enforcement Section, Environment and Natural Resources Division.

[FR Doc. E9-20950 Filed 8-31-09; 8:45 am]

BILLING CODE 4410-15-P